ENVIRONMENTAL PROTECTION AGENCY

40 CFR Part 52

[OH139-1a; FRL-6960-1]

Approval and Promulgation of Implementation Plans; Ohio

AGENCY: Environmental Protection Agency (EPA).

ACTION: Direct final rule.

SUMMARY: On July 6, 2000, the State of Ohio submitted a site-specific State Implementation Plan (SIP) revision revising Volatile Organic Compound (VOC) Reasonably Available Control Technology (RACT) requirements for Morgan Adhesives Company in Stow, Ohio. The SIP revision establishes an alternative control strategy for limiting VOC emissions from coating lines at its pressure sensitive tape and label manufacturing plant in Stow. This rulemaking action approves, using the direct final process, the Ohio SIP revision request.

DATES: This rule is effective on June 18, 2001, unless EPA receives adverse written comments by May 17, 2001. If adverse comment is received, EPA will publish a timely withdrawal of the rule in the Federal Register and inform the public that the rule will not take effect.

ADDRESSES: Written comments should be sent to: J. Elmer Bortzer, Chief, Regulation Development Section, Air Programs Branch (AR-18J), U.S. Environmental Protection Agency, 77 West Jackson Boulevard, Chicago, Illinois 60604. Copies of the revision request for this rulemaking action are available for inspection at the following address: U.S. Environmental Protection Agency, Region 5, Air and Radiation Division, 77 West Jackson Boulevard, Chicago, Illinois 60604. (It is recommended that you telephone Steven Rosenthal at (312) 886-6052 before visiting the Region 5 Office).

FOR FURTHER INFORMATION CONTACT: Steven Rosenthal at (312) 886-6052.

SUPPLEMENTARY INFORMATION: Throughout this document wherever “we,” “us,” or “our” are used we mean EPA.

Table of Contents

I. What Action is EPA Taking?

II. What Were Morgan Adhesives' Previous SIP Requirements?

III. What Are the Pollution Control Requirements that Morgan Adhesives will now be Subject to as a Result of this Action?

IV. What is the Effect and Basis for Approval of this SIP Revision.

V. Final Rulemaking Action.

VI. Administrative Requirements.

I. What Action is EPA Taking?

EPA is approving a revision to Ohio's SIP which changes the VOC control requirements for Morgan Adhesives.

II. What Were Morgan Adhesives' Previous SIP Requirements?

Morgan's paper coating lines were previously subject to a limit of 2.9 pounds of VOC per gallon of coating, or 4.8 pounds of VOC per gallon of solids. Alternatively, a paper coating line could employ a pollution control system to meet an overall 81% VOC reduction and a 90% control equipment destruction efficiency.

III. What Are the Pollution Control Requirements that Morgan Adhesives will now be Subject to as a Result of this Action?

Morgan Adhesives is subject to VOC RACT ¹ requirements under section 182(b)(2) of the Clean Air Act (Act). This SIP revision changes RACT as it applies to Morgan Adhesives by establishing an alternative control strategy for its coating lines KOO3 through KOO9. This alternative strategy allows Morgan to average its coating lines together to determine its daily allowable VOC emissions. However, in exchange for this inrease in operating flexibility, the allowable emissions for these coating lines is only 67% of what it would be if the allowable emissions for each line were determined separately. Morgan is required to keep daily records of its coating use and to monitor the performance of its pollution control equipment. It is also required to report any records that demonstrate a failure to comply with its daily allowable VOC emission limitation.

¹ A definition of RACT is cited in a General Preamble-Supplement published at 44 FR at 53761 (September 17, 1979). RACT is defined as the lowest emission limitation that a particular source is capable of meeting by the application of control technology that is reasonably available, considering technological and economic feasibility.

IV. What is the Effect and Basis for Approval of this SIP Revision?

The effect that this SIP revision has is that the coating lines at Morgan are all averaged together for purposes of determining compliance. This allows one or more lines to exceed the VOC coating limits that would otherwise apply. However, these excess emissions must be compensated for by reductions below the otherwise allowable limits for the remaining coating lines and the combined daily allowable emissions is only 67% of what they would be if the allowable emissions were determined individually for each line.

This alternative RACT limit is allowed under an April 7, 1989, EPA policy memorandum titled “Baseline for Cross-Line Averaging” by John Calcagni, former Director of the Air Quality Management Division. This memorandum clarifies EPA policy for cross line averaging used by coating lines. Cross-line averaging refers to the averaging of emissions from two or more operations or sources to achieve compliance with the emission limits of a rule. The combined daily allowable emission limit is based upon the lower of actual or allowable emission rates from each line and current production. The cross-line averaging proposed by Morgan is consistent with EPA RACT policy as set forth in this April 7, 1989 memorandum.

V. Final Rulemaking Action.

In this rulemaking action, we are approving the July 6, 2000, Ohio SIP revision submittal of an alternative RACT VOC limit for the Morgan Adhesives Company in Stow, Ohio. The specific control requirements for Morgan Adhesives are contained in the Director's Final Findings and Orders, specifically the “Orders” part of the document, signed by Ohio EPA on July 5, 2000. We are publishing this action without prior proposal because we view this as a noncontroversial revision and anticipate no adverse comments. However, in a separate document in this Federal Register publication, we are proposing to approve the SIP revision should adverse written comments be filed. This action will be effective without further notice unless we receive relevant adverse written comment by May 17, 2001. Should we receive such comments, we will publish a final rule informing the public that this action will not take effect. Any parties interested in commenting on this action should do so at this time. If no such comments are received, the public is advised that this action will be effective on June 18, 2001.

VI. Administrative Requirements.

Under Executive Order 12866 (58 FR 51735, October 4, 1993), this action is not a “significant regulatory action” and therefore is not subject to review by the Office of Management and Budget. This action merely approves state law as meeting federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4). This rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of government, as specified in Executive Order 13132 (64 FR 43255, August 10, 1999), because it merely approves a state rule implementing a federal standard, and does not alter the relationship or the distribution of power and responsibilities established in the Clean Air Act. This rule also is not subject to Executive Order 13045 (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the executive order. This rule does not impose an information collection burden under the provisions of the Paperwork Reduction Act of 1995 (44 U.S.C. 3501 et seq.).

The Congressional Review Act, 5 U.S.C. section 801 et seq., as added by the Small Business Regulatory Enforcement Fairness Act of 1996, generally provides that before a rule may take effect, the agency promulgating the rule must submit a rule report, which includes a copy of the rule, to each House of the Congress and to the Comptroller General of the United States. Section 804, however, exempts from section 801 the following types of rules: Rules of particular applicability; rules relating to agency management or personnel; and rules of agency organization, procedure, or practice that do not substantially affect the rights or obligations of non-agency parties. 5 U.S.C. section 804(3). EPA is not required to submit a rule report regarding this action under section 801 because this is a rule of particular applicability.

Under section 307(b)(1) of the Clean Air Act, petitions for judicial review of this action must be filed in the United States Court of Appeals for the appropriate circuit by June 18, 2001. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Hydrocarbons, Incorporation by reference, Ozone, Reporting and record keeping, Volatile organic compounds.

Dated: March 15, 2001.
Norman R. Niedergang,
Acting Regional Administrator, Region 5.

For the reasons stated in the preamble, part 52, chapter I, title 40 of the Code of Federal Regulations is amended as follows:

PART 52—[AMENDED]

1. The authority citation for part 52 continues to read as follows:

Authority: 42 U.S.C. 7401 et seq.

Subpart KK—Ohio

2. Section 52.1870 is amended by adding paragraph (c)(123) to read as follows:

§ 52.1870 Identification of plan.

* * * * *

(c) * * *

(123) On July 6, 2000, the State of Ohio submitted a site-specific State Implementation Plan (SIP) revision affecting Volatile Organic Compound control requirements at Morgan Adhesives Company in Stow, Ohio. The SIP revision establishes an alternative control strategy for limiting volatile organic compound emissions from coating lines at its pressure sensitive tape and manufacturing plant in Stow.

(i) Incorporation by reference.

July 5, 2000, Director's Final Findings and Orders of the Ohio Environmental Protection Agency in the matter of: Morgan Adhesives Company, effective on July 5, 2000.

[FR Doc. 01-9355 Filed 4-16-01; 8:45 am]

BILLING CODE 6560-50-P